DEPARTMENT OF STATE

[Public Notice 4742]

Advisory Committee on International Economic Policy; Notice of Open Meeting

The Advisory Committee on International Economic Policy (ACIEP) will meet from 1:30 p.m. to 4:30 p.m. on Tuesday, July 20, 2004, in Room 1107, U.S. Department of State, 2201 C Street, NW., Washington, DC. The meeting will be hosted by Assistant Secretary of State for Economic and Business Affairs E. Anthony Wayne and Committee Chairman R. Michael Gadbaw. Topics for the July 20 meeting are U.S. economic relations with Iraq and the activities of the Millennium Challenge Corporation. The ACIEP serves the U.S. Government in a solely advisory capacity concerning issues and problems in international economic policy.

This meeting is open to the public as seating capacity allows. Entry to the building is controlled and will be facilitated by advance arrangements. Members of the public planning to attend should provide, by July 15, their name, professional affiliation, social security number (or other identification, such as driver's license), date of birth, and citizenship to Gwendolyn Jackson by fax (202) 647-5936, e-mail (jacksongl@state.gov), or telephone (202) 647-0847. Attendees should use the C Street entrance.

For further information about the meeting, please contact Eliza Koch, ACIEP Secretariat, Office of Economic Policy and Public Diplomacy, Bureau of Economic and Business Affairs, at (202) 647-1310 or kochek@state.gov.

Dated: July 1, 2004.
Eliza K. Koch,
ACIEP Secretariat, Office of Economic Policy and Public Diplomacy, Bureau of Economic and Business Affairs, Department of State.

[FR Doc. 04-15656 Filed 7-8-04; 8:45 am]

BILLING CODE 4710-07-P